DEPARTMENT OF COMMERCE

National Oceanic and Atmospheric Administration

[I.D. 061402A]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting via conference call of the Spiny Lobster Advisory Panel (AP).

DATES: This meeting will be via conference call on July 2, 2002, beginning at 8 a.m. EST.

ADDRESSES: A listening station will be available at the National Marine Fisheries Service, 75 Virginia Beach Drive, Miami, FL; Contact: Sophia Howard at 305-361-4285.

Council address: Gulf of Mexico Fishery Management Council, 3018 U.S. Highway 301 North, Suite 1000, Tampa, FL 33619.

FOR FURTHER INFORMATION CONTACT: Wayne Swingle, Executive Director, Fishery Biologist, Gulf of Mexico Fishery Management Council; telephone: 813-228-2815.

SUPPLEMENTARY INFORMATION: The Spiny Lobster Advisory Panel (AP) will convene by conference call to review and comment on a proposed federal rule that would complement a rule drafted by the Florida Fish and Wildlife Conservation Commission (FFWCC). The proposed rule would allow vessels in transit to have on board an additional sublegal-size lobster for each trap aboard, in addition to the current limit of 50 sublegal-size lobsters. All such lobsters are held in aerated live wells. The proposed rule is being implemented by the framework procedure implemented by Spiny Lobster Amendment 2 approved by the NMFS October 27, 1989 (54 FR 48059). The procedure approved in the amendment by NMFS, the Council, and the state of Florida, allows implementation of this type of rule in the exclusive economic zone by the Regional Administrator (RA) of NMFS if he/she concurs that the rule is consistent with the goals and objectives of the fishery management plan (FMP), and with federal law. In making that decision, the RA considers the comments of the Councils. The Councils may consider the comments of the AP and the Scientific and Statistical Committee (SSC) who are forwarded this proposal by the FFWCC, along with a copy of the administrative record for the state actions in approval of the state rule.

A copy of the agenda can be obtained by contacting the Council (see addresses above).

Although non-emergency issues not contained in the agenda may come before the Spiny Lobster AP for discussion, in accordance with the Magnuson-Stevens Fishery Conservation and Management Act (MSFCMA), those issues may not be the subject of formal action during this meeting. Action will be restricted to those issues specifically identified in this notice and any issues arising after publication of this notice that require emergency action under section 305 (c) of the MSFCMA, provided the public has been notified of the Council's intent to take final action to address the emergency.

Special Accommodations

The listening station is physically accessible to people with disabilities. Requests for sign language interpretation or other auxiliary aids should be directed to Anne Alford at the Council (see ADDRESSES) by June 25, 2002.

Dated: June 14, 2002.
Virginia M. Fay,
Acting Director, Office of Sustainable Fisheries, National Marine Fisheries Service.

[FR Doc. 02-15486 Filed 6-18-02; 8:45 am]

BILLING CODE 3510-22-S